DEPARTMENT OF COMMERCE

National Institute of Standards and Technology

Cloud Computing Forum & Workshop II

AGENCY: National Institute of Standards & Technology (NIST), Commerce.

ACTION: Notice of public workshop.

SUMMARY: NIST announces the Cloud Computing Forum & Workshop II to be held on November 4 and 5, 2010. This workshop will provide information on a Cloud Computing Roadmap Strategy as well as provide an updated status on NIST efforts to help develop open standards in interoperability, portability and security in cloud computing. The goals of this workshop are: Public announcement of the Cloud Computing Roadmap Strategy; engagement with interested parties on development of a neutral cloud computing reference architecture and taxonomy; defining target United States Government Cloud Computing Business Use Cases; and public announcement of access to the Standards Acceleration to Jumpstart the Adoption of Cloud Computing portal. Additional workshops will be announced in the Federal Register.

DATES: The Cloud Computing Forum & Workshop II will be held November 4 and 5, 2010. Attendees must register by Thursday, October 28, 2010.

ADDRESSES: On the first day of the event, November 4, panel discussions will be held at the National Institute of Standards and Technology, 100 Bureau Drive, Gaithersburg, MD 20899 in the Red Auditorium of the Administration Building, Building 101. The second day, November 5, will feature workshops held at the Gaithersburg Holiday Inn, 2 Montgomery Village Avenue, Gaithersburg, MD 20879. Please note admittance instructions under the SUPPLEMENTARY INFORMATION section of this notice.

FOR FURTHER INFORMATION CONTACT: For further information contact Robert Bohn by e-mail at robert.bohn@nist.gov or by phone at (301) 975-2900. To register, go to: https://www-s.nist.gov/CRS/.

SUPPLEMENTARY INFORMATION: NIST plans to host several cloud computing workshops. The workshop schedules, registration information, and a list of frequently asked questions regarding these workshops are posted on the Internet at: http://www.nist.gov/itl/cloud/upcoming-events.cfm.

On May 20, 2010, NIST hosted the first Cloud Computing Forum & Workshop. The purpose of that initial workshop was to respond to the request of the Federal Chief Information Officer to NIST to lead federal efforts on standards for data portability, cloud interoperability, and security. The workshop's goals were to initiate engagement with industry to accelerate the development of cloud standards for interoperability, portability, and security; introduce NIST Cloud Computing efforts; and discuss the Federal Government's experience with cloud computing.

The purpose of the second Cloud Computing Forum & Workshop II, to be held on November 4 and 5, 2010, is to report on the status of these efforts and to socialize the NIST strategy to collaboratively develop a Cloud Computing Roadmap among multiple federal and industrial stakeholders, and to advance a dialogue between these groups. To frame the discussions, the United States Chief Information Officer and Director of the National Institute of Standards and Technology will present their vision on the first day, November 4. Panel discussions will consider the roles of standard organizations and ad-hoc standards in the cloud; need and use of a reference architecture to support cloud adoption; key cloud computing issues and proposed solutions; security in the cloud; and international aspects of cloud computing. Breakout sessions on the following day, November 5, designed to actively engage stakeholders, will discuss these issues, and develop a series of next steps for the effort in cloud computing standards.

All visitors to the NIST site are required to pre-register to be admitted and have appropriate government-issued photo ID to gain entry to NIST. Anyone wishing to attend this meeting must register at https://www-s.nist.gov/CRS/ by close of business Thursday, October 28, 2010, in order to attend.

Dated: October 14, 2010.
Harry S. Hertz,
Director, Baldrige National Quality Program.

[FR Doc. 2010-26303 Filed 10-18-10; 8:45 am]

BILLING CODE 3510-13-P